NUCLEAR REGULATORY COMMISSION

[Docket Nos. 50-272, 50-311, and 50-354; NRC-2009-0390 and NRC-2009-0391]

PSEG Nuclear, LLC; Notice of Intent To Prepare an Environmental Impact Statement and Conduct the Scoping Process for Salem Nuclear Generating Station, Units 1 and 2, and Hope Creek Generating Station

PSEG Nuclear, LLC (PSEG Nuclear) has submitted applications for renewal of Facility Operating License Nos. DPR-70, DPR-75, and NPF-57 for an additional 20 years of operation at the Salem Nuclear Generating Station, Units 1 and 2 (SALEM) and Hope Creek Generating Station (HCGS). SALEM and HCGS are located in Salem County, New Jersey, approximately 8 miles southwest of Salem city limits.

The current operating licenses for SALEM, Units 1 and 2, and HCGS expire on August 13, 2016, April 18, 2020, and April 11, 2026, respectively. The applications for renewal, dated August 18, 2009, were submitted pursuant to Title 10 of the Code of Federal Regulations (10 CFR) Part 54. A separate notice of receipt and availability of the applications, which included the environmental reports (ERs), was published in the Federal Register on September 8, 2009 (74 FR 46238). A notice of acceptance for docketing of the applications and opportunity for hearing regarding renewal of the facility operating licenses is also being published in the Federal Register. The purpose of this notice is to inform the public that the U.S. Nuclear Regulatory Commission (NRC) will be preparing an environmental impact statement (EIS) related to the review of the license renewal applications and to provide the public an opportunity to participate in the environmental scoping process, as defined in 10 CFR 51.29. In addition, as outlined in 36 CFR 800.8, “Coordination with the National Environmental Policy Act,” the NRC plans to coordinate compliance with Section 106 of the National Historic Preservation Act in meeting the requirements of the National Environmental Policy Act of 1969 (NEPA).

In accordance with 10 CFR 51.53(c) and 10 CFR 54.23, PSEG Nuclear submitted the ERs as part of the applications. The ERs were prepared pursuant to 10 CFR Part 51 and are publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The ADAMS accession number for the SALEM and HCGS ERs are ML092430232 and ML092430376, respectively. Persons who do not have access to ADAMS or who encounter problems in accessing the documents located in ADAMS, should contact the NRC's PDR reference staff by telephone at 1-800-397-4209, or 301-415-4737, or by e-mail at pdr.resource@nrc.gov. The SALEM and HCGS ERs may also be viewed on the Internet at http://www.nrc.gov/reactors/operating/licensing/renewal/applications/salem.html and http://www.nrc.gov/reactors/operating/licensing/renewal/applications/hope-creek.html.

This notice advises the public that the NRC intends to gather the information necessary to prepare a plant-specific supplement to the Commission's “Generic Environmental Impact Statement (GEIS) for License Renewal of Nuclear Plants,” (NUREG-1437) related to the review of the applications for renewal of the SALEM and HCGS operating licenses for an additional 20 years. Possible alternatives to the proposed action (license renewal) include no action and reasonable alternative energy sources. The NRC is required by 10 CFR 51.95 to prepare a supplement to the GEIS in connection with the renewal of an operating license. This notice is being published in accordance with NEPA and the NRC's regulations found in 10 CFR Part 51.

The NRC will first conduct a scoping process for the supplement to the GEIS and, as soon as practicable thereafter, will prepare a draft supplement to the GEIS for public comment. Participation in the scoping process by members of the public and local, State, Tribal, and Federal government agencies is encouraged. The scoping process for the supplement to the GEIS will be used to accomplish the following:

a. Define the proposed action which is to be the subject of the supplement to the GEIS.

b. Determine the scope of the supplement to the GEIS and identify the significant issues to be analyzed in depth.

c. Identify and eliminate from detailed study those issues that are peripheral or that are not significant.

d. Identify any environmental assessments and other ElSs that are being or will be prepared that are related to, but are not part of, the scope of the supplement to the GEIS being considered.

e. Identify other environmental review and consultation requirements related to the proposed action.

f. Indicate the relationship between the timing of the preparation of the environmental analyses and the Commission's tentative planning and decision-making schedule.

g. Identify any cooperating agencies and, as appropriate, allocate assignments for preparation and schedules for completing the supplement to the GEIS to the NRC and any cooperating agencies.

h. Describe how the supplement to the GEIS will be prepared, and include any contractor assistance to be used.

The NRC invites the following entities to participate in scoping:

a. The applicant, PSEG Nuclear.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who has petitioned or intends to petition for leave to intervene.

In accordance with 10 CFR 51.26, the scoping process for an EIS may include a public scoping meeting to help identify significant issues related to a proposed activity and to determine the scope of issues to be addressed in an EIS. The NRC has decided to hold public meetings for the SALEM and HCGS license renewal supplement to the GEIS. The scoping meetings will be held on November 5, 2009, and there will be two sessions to accommodate interested parties. The first session will convene at 1 p.m. and will continue until 4 p.m. The second session will convene at 7 p.m. with a repeat of the overview portions of the meeting and will continue until 10 p.m., as necessary. Both sessions will be held at the Salem County Emergency Services Building, 135 Cemetery Road, Woodstown, New Jersey 08098. Both meetings will be transcribed and will include: (1) An overview by the NRC staff of the NEPA environmental review process, the proposed scope of the supplement to the GEIS, and the proposed review schedule; and (2) the opportunity for interested government agencies, organizations, and individuals to submit comments or suggestions on the environmental issues or the proposed scope of the supplement to the GEIS. Additionally, the NRC staff will host informal discussions one hour prior to the start of each session at the same location. No formal comments on the proposed scope of the supplement to the GEIS will be accepted during the informal discussions. To be considered, comments must be provided either at the transcribed public meetings or in writing, as discussed below. Persons may register to attend or present oral comments at the meetings on the scope of the NEPA review by contacting the NRC Project Manager, Charles Eccleston, by telephone at 1-800-368-5642, extension 8537 or by e-mail at Charles.Eccleston@nrc.gov no later than October 29, 2009. Members of the public may also register to speak at the meeting within 15 minutes of the start of each session. Individual oral comments may be limited by the time available, depending on the number of persons who register. Members of the public who have not registered may also have an opportunity to speak, if time permits. Public comments will be considered in the scoping process for the supplement to the GEIS. Mr. Eccleston will need to be contacted no later than October 29, 2009, if special equipment or accommodations are needed to attend or present information at the public meeting, so that the NRC staff can determine whether the request can be accommodated.

Members of the public may send written comments on the environmental scope of the SALEM and HCGS license renewal review to: Chief, Rulemaking and Directives Branch, Division of Administrative Services, Office of Administration, Mailstop TWB 5B-01M, U.S. Nuclear Regulatory Commission, Washington, DC 20555-0001, and should cite the publication date and page number of this Federal Register notice. To be considered in the scoping process, written comments should be postmarked by December 21, 2009. Electronic comments may be sent by e-mail to the NRC at SalemEIS@nrc.gov or HopeCreekEIS@nrc.gov, and should be sent no later than December 21, 2009, to be considered in the scoping process. Comments will be available electronically and accessible through ADAMS at http://adamswebsearch.nrc.gov/dologin.htm.

Participation in the scoping process for the supplement to the GEIS does not entitle participants to become parties to the proceeding to which the supplement to the GEIS relates. Matters related to participation in any hearing are outside the scope of matters to be discussed at this public meeting.

Dated at Rockville, Maryland, this 15th day of October, 2009.
For the Nuclear Regulatory Commission.
Bo M. Pham,
Chief, Projects Branch 1, Division of License Renewal, Office of Nuclear Reactor Regulation.

[FR Doc. E9-25535 Filed 10-22-09; 8:45 am]

BILLING CODE 7590-01-P